DEPARTMENT OF COMMERCE

National Oceanic and Atmospheric Administration

50 CFR Part 679

[I.D. 032900C]

RIN 0648-AN25

Fisheries of the Exclusive Economic Zone Off Alaska; Allocation of Pacific Cod among Vessels Using Hook-and-line or Pot Gear in the Bering Sea and Aleutian Islands

AGENCY: National Marine Fisheries Service (NMFS), National Oceanic and Atmospheric Administration (NOAA), Commerce.

ACTION: Notice of availability; request for comments.

SUMMARY: The North Pacific Fishery Management Council (Council) has submitted Amendment 64 to the Fishery Management Plan for the Groundfish Fishery of the Bering Sea and Aleutian Islands Area (FMP). This amendment would apportion the hook-and-line or pot gear (fixed gear) allocation of total allowable catch (TAC) of Pacific cod in the Bering Sea and Aleutian Islands management area (BSAI) among hook-and-line catcher-processor vessels, hook-and-line catcher vessels, and pot gear vessels. This action responds to socio-economic needs of the fishing industry that have been identified by the Council and intends to promote the goals and objectives of the FMP.

NMFS is requesting comments from the public on the proposed amendment, copies of which may be obtained from the Council (see ADDRESSES).

DATES: Comments on Amendment 64 must be submitted by June 12, 2000.

ADDRESSES: Comments must be sent to Sue Salveson, Assistant Regional Administrator for Sustainable Fisheries, Alaska Region, NMFS, P.O. Box 21668, Juneau, AK 99802, Attn: Lori Gravel. Hand- or courier-delivered comments may be sent to the Federal Building, 709 West 9th Street, Room 453, Juneau, AK 99801. Comments may also be sent via facsimile (fax) to 907-586-7465. Comments will not be accepted if submitted via e-mail or the Internet. Copies of Amendment 64 and the Environmental Assessment/Regulatory Impact Review/Initial Regulatory Flexibility Analysis (EA/RIR/IRFA) prepared for the amendments are available from the North Pacific Fishery Management Council at 605 West 4th Ave. Suite 306, Anchorage, AK 99501, telephone 907-271-2809.

FOR FURTHER INFORMATION CONTACT: James Hale, 907-586-7228.

SUPPLEMENTARY INFORMATION:

Background

The Magnuson-Stevens Fishery Conservation and Management Act (Magnuson-Stevens Act) requires that each regional fishery management council submit any fishery management plan or plan amendment it prepares to NMFS for review and approval, disapproval, or partial approval. The Magnuson-Stevens Act also requires that NMFS, after receiving a fishery management plan or amendment, immediately publish a notice in the Federal Register that the fishery management plan or amendment is available for public review and comment. This action constitutes such notice for Amendment 64 to the BSAI FMP. NMFS will consider the public comments received during the comment period in determining whether to approve this amendment.

The groundfish fisheries in the Exclusive Economic Zone (3 to 200 miles offshore) of the BSAI are managed by NMFS under the BSAI groundfish FMP, which was prepared by the Council under the Magnuson-Stevens Act, Pub. L. 94-265, 16 U.S.C. 1801, and approved and implemented by NMFS in 1981.

Amendment 64, if approved, would establish separate Pacific cod directed fishing allowances for different sectors of vessels using hook-and-line or pot gear. These allowances are intended to reflect relative Pacific cod harvest shares since the mid 1990s. Under the proposed amendment, the Regional Administrator, NMFS, Alaska Region, annually would estimate the amount of Pacific cod taken as incidental catch in directed fisheries for groundfish other than Pacific cod by vessels using hook-and-line or pot gear and deduct that amount from the portion of Pacific cod TAC annually allocated to hook-and-line or pot gear (51 percent of the TAC). The remainder would be further allocated as directed fishing allowances for the different hook-and-line and pot gear users (sectors) as follows:

(a) Catcher/processor vessels using hook-and-line gear-80 percent;

(b) Catcher vessels using hook-and-line gear-0.3 percent;

(c) Vessels using pot gear-18.3 percent; and

(d) Catcher vessels less than 60 ft (18.3 meters) length overall (LOA) that use either hook-and-line or pot gear-1.4 percent.

Specific provisions for the accounting of these directed fishing allowances and the transfer of unharvested amounts of these allowances to other vessels using hook-and-line or pot gear would be set forth in regulations implementing the proposed amendment.

Amendment 64 would expire December 31, 2003. Continuing the proposed allocations of Pacific cod or selecting new allocation percentages after this date would require Council adoption and NMFS' approval of a new FMP amendment. In adopting an expiration date for the proposed amendment, the Council reasoned that 3 years would be sufficient time for the hook-and-line or pot gear sector allocations of Pacific cod to address the issue of increasing competition for BSAI Pacific cod before reconsidering the issue in light of other proposed changes impending for the BSAI Pacific cod groundfish fisheries, including proposed gear or species endorsements on permits issued under the license limitation program.

Public comments are being solicited on this proposed amendment through the end of the comment period specified in this notice. A proposed rule that would implement the amendment may be published in the Federal Register for public comment following NMFS' evaluation under the Magnuson-Stevens Act procedures. Public comments on the proposed rule must be received by close of business on the last day of the comment period of the amendment to be considered in the decision to approve or disapprove the amendment. All comments received by the end of the comment period, whether specifically directed to the amendment or to the proposed rule, will be considered in the decision.

Authority: 16 U.S.C. 1801 et seq.

Dated: April 4, 2000.
Bruce C. Morehead,
Acting Director, Office of Sustainable Fisheries, National Marine Fisheries Service.

[FR Doc. 00-8872 Filed 4-10-00; 8:45 am]

BILLING CODE 3510-22-F